DEPARTMENT OF ENERGY

Federal Energy Regulatory Commission

[Project No. 2077-130]

Great River Hydro, LLC; Notice of Intent To Prepare an Environmental Assessment

On November, 12, 2025, supplemented January 5, 2026, Great River Hydro, LLC filed an application for a temporary variance from minimum flows under Article 401 for the Fifteen Mile Falls Hydroelectric Project No. 2077. The project is located on the Connecticut River in Grafton County, New Hampshire, and Caledonia County, Vermont. The project does not occupy federal lands.

Due to drought conditions, Great River Hydro, LLC reduced minimum flows from the Comerford Development, beginning on September 29, 2025. A variance in the minimum flows required by Article 401 was necessary to preserve the depleted storage capacity of its upstream Moore reservoir. The variance allowed the licensee to decrease the seasonal minimum flows of 818 cubic feet per second (cfs) from June 1 to September 30, and 1,145 cfs from October 1 to March 31, to 600 cfs. The reduction in flows occurred from September 29 to December 15, 2025. A public notice was issued on December 5, 2025, and no comments were received.

This notice identifies Commission staff's intention to prepare an environmental assessment (EA) under the National Environmental Policy Act (42 U.S.C. 4321 et seq) for the project.¹ Commission staff plans to issue an EA by April 10, 2026. Revisions to the schedule may be made as appropriate. The EA will be issued for a 30-day comment period. All comments filed on the EA will be reviewed by staff and considered in the Commission's final decision on the proceeding.

¹ The unique identification number for documents relating to this environmental review is EAXX-019-20-000-1767861898.

For public inquiries and assistance with making filings such as interventions, comments, or requests for rehearing, contact the Office of Public Participation at (202) 502-6595 or OPP@ferc.gov.

Any questions regarding this notice may be directed to Erik Hazelton at (212) 273-5911 or erik.hazelton@ferc.gov.

(Authority: 18 CFR 2.1)

Dated: January 28, 2026.
Debbie-Anne A. Reese,
Secretary.

[FR Doc. 2026-02035 Filed 1-30-26; 8:45 am]

BILLING CODE 6717-01-P